DEPARTMENT OF ENERGY

Federal Energy Regulatory Commission

[Project No. 2302-101]

Brookfield White Pine Hydro, LLC; Notice of Reasonable Period of Time for Water Quality Certification Application

On July 30, 2025, the Maine Department of Environmental Protection (Maine DEP) submitted to the Federal Energy Regulatory Commission (Commission) notice that it received a request for a Clean Water Act section 401(a)(1) water quality certification as defined in 40 CFR 121.5, from Brookfield White Pine Hydro, LLC, in conjunction with the above captioned project on July 9, 2025. Pursuant to the Commission's regulations,¹ we hereby notify the Maine DEP of the following:

¹ 18 CFR 4.34(b)(5)(iii).

Date of Receipt of the Certification Request: July 9, 2025.

Reasonable Period of Time To Act on the Certification Request: July 8, 2026.

If Maine DEP fails or refuses to act on the water quality certification request on or before the above date, then the certifying authority is deemed waived pursuant to section 401(a)(1) of the Clean Water Act, 33 U.S.C. 1341(a)(1).

Dated: July 31, 2025.
Debbie-Anne A. Reese,
Secretary.

[FR Doc. 2025-14841 Filed 8-4-25; 8:45 am]

BILLING CODE 6717-01-P